DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at Vol. 79, FR 1882 dated January 10, 2014).

This notice reflects organizational changes to the Health Resources and Services Administration. Specifically, this notice updates the functional statement for the Healthcare Systems Bureau (RR), Office of Pharmacy Affairs (RR7).

Chapter RR—Healthcare Systems Bureau

Section RR-20, Functions

(1) Delete the functional statement for the Office of Pharmacy Affairs (RR7) and replace in its entirety.

Office of Pharmacy Affairs (RR7)

The Office of Pharmacy Affairs promotes access to clinical and cost effective pharmacy services to enable participating entities to stretch scarce federal resources in order to serve more patients, expand their services, or offer additional services. Specifically, the office: (1) Manages the 340B involvement of pharmaceutical manufacturers that participate in the Medicaid program, through Pharmaceutical Pricing Agreements; (2) maintains a publicly accessible database of participating covered entities, sites, and contract pharmacies; (3) publishes guidelines/regulations to assist in the understanding and participation in the 340B Program; (4) maintains a Prime Vendor Program to increase the value of the 340B Program; (5) provides technical assistance to Program stakeholders to support their appropriate and best use of the 340B Program; (6) fosters mutually productive relationships with federal and private sector partners; (7) provides a national platform for the coordination and development of leading practices for pharmacy services; (8) promotes comprehensive and efficient pharmacy management application and systems use to ensure safe and effective medication use; (9) manages quality improvement activities; and (10) promotes program integrity compliance and improvement activities.

Section RR-30, Delegations of Authority

All delegations of authority and re-delegations of authority made to HRSA officials that were in effect immediately prior to this reorganization, and that are consistent with this reorganization, shall continue in effect pending further re-delegation.

This reorganization is effective upon date of signature.

Dated: March 20, 2014.
Mary K. Wakefield,
Administrator.

[FR Doc. 2014-07177 Filed 3-31-14; 8:45 am]

BILLING CODE 4165-15-P